DEPARTMENT OF ENERGY

Federal Energy Regulatory Commission

[Project No. 12735-001]

Midwest Hydraulic, Inc.; Notice of Surrender of Preliminary Permit

March 19, 2008.

Take notice that Midwest Hydraulic, Inc., permittee for the proposed Stebbinsville Hydroelectric Project, has requested that its preliminary permit be terminated. The permit was issued on March 8, 2007, and would have expired on February 28, 2010.¹ The project would have been located on the Yahara River in Rock County, Wisconsin.

¹ 118 FERC ¶ 62,180.

The permittee filed the request on March 17, 2008, and the preliminary permit for Project No. 12735 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-6020 Filed 3-24-08; 8:45 am]

BILLING CODE 6717-01-P